DEPARTMENT OF COMMERCE

Foreign-Trade Zones Board

[B-38-2013]

Foreign-Trade Zone 99—Wilmington, Delaware; Application for Expansion of Subzone 99E; Delaware City Refining Company LLC; New Castle County, Delaware

An application has been submitted to the Foreign-Trade Zones (FTZ) Board by the State of Delaware (grantee of FTZ 99), through the Delaware Economic Development Office, requesting the expansion of Subzone 99E, located at the facility of the Delaware City Refining Company, LLC in New Castle County, Delaware. The application was submitted pursuant to the provisions of the Foreign-Trade Zones Act, as amended (19 U.S.C. 81a-81u), and the regulations of the FTZ Board (15 CFR part 400). It was formally docketed on April 25, 2013.

The grantee proposes to expand Subzone 99E to include an additional 147 acres and to remove 7.2 acres (new subzone total acreage = 1,940 acres). The subzone is located at 4550 Wrangle Hill Road in New Castle County. No authorization for additional production authority has been requested at this time.

In accordance with the FTZ Board's regulations, Kathleen Boyce of the FTZ Staff is designated examiner to review the application and make recommendations to the FTZ Board.

Public comment is invited from interested parties. Submissions shall be addressed to the FTZ Board's Executive Secretary at the address below. The closing period for their receipt is June 11, 2013. Rebuttal comments in response to material submitted during the foregoing period may be submitted during the subsequent 15-day period to June 26, 2013.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov at (202) 482-1346.

Dated: April 26, 2013.
Andrew McGilvray,
Executive Secretary.

[FR Doc. 2013-10407 Filed 5-1-13; 8:45 am]

BILLING CODE P